DEPARTMENT OF JUSTICE

[OMB 1140-0108]

Agency Information Collection Activities; Proposed eCollection of eComments Requested; Extension With Change of a Currently Approved Collection; Forensic Firearm Training Request for Non-ATF Employees—ATF Form 7110.15

AGENCY: Bureau of Alcohol, Tobacco, Firearms and Explosives, Department of Justice.

ACTION: 60-Day notice.

SUMMARY: The Bureau of Alcohol, Tobacco, Firearms and Explosives (ATF), Department of Justice (DOJ), will submit the following information collection request to the Office of Management and Budget (OMB) for review and approval in accordance with the Paperwork Reduction Act of 1995. The proposed information collection (IC) OMB 1140-0108 (Forensic Firearm Training Request for Non-ATF Employees—ATF Form 7110.15) is being updated to include a new telephone number for the training program. The proposed IC is also being published to obtain comments from the public and affected agencies.

DATES: Comments are encouraged and will be accepted for 60 days until April 25, 2022.

FOR FURTHER INFORMATION CONTACT: If you have additional comments regarding the estimated public burden or associated response time, suggestions, or need a copy of the proposed information collection instrument with instructions, or additional information, contact: Jodi Marsanopoli, Office of Science and Technology Laboratory Services, National Laboratory Center, by mail at 6000 Ammendale Road, Ammendale, MD 20705, email at Jodi.Marsanopoli@atf.gov, or telephone at 202-527-5078.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Evaluate whether and, if so, how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection (check justification or form 83): Extension with Change of a Currently Approved Collection.

2. The Title of the Form/Collection: Forensic Firearm Training Request for Non-ATF Employees.

3. The agency form number, if any, and the applicable component of the Department sponsoring the collection: Form number (if applicable): ATF Form 7110.15. Component: Bureau of Alcohol, Tobacco, Firearms and Explosives, U.S. Department of Justice.

4. Affected public who will be asked or required to respond, as well as a brief abstract:

Primary: Federal Government.

Other (if applicable): State, Local, or Tribal Government.

Abstract: The Forensic Firearm Training Request for Non-ATF Students—ATF Form 7110.15) is used by Federal, State and local, and international law enforcement personnel to register, obtain course information, and/or evaluate forensic firearms investigative techniques training offered by the Bureau of Alcohol, Tobacco, Firearms and Explosives.

5. An estimate of the total number of respondents and the amount of time estimated for an average respondent to respond: An estimated 75 respondents will respond to this collection once annually, and it will take each respondent approximately 6 minutes to complete their responses.

6. An estimate of the total public burden (in hours) associated with the collection: The estimated annual public burden associated with this collection is 7.5 or 8 hours, which is equal to 75 (total respondents) * 1 (# of response per respondent) * .1 (6 minutes or the time taken to prepare each response).

If additional information is required contact: Melody Braswell, Department Clearance Officer, United States Department of Justice, Justice Management Division, Policy and Planning Staff, Two Constitution Square, 145 N Street NE, Mail Stop 3.E-405A, Washington, DC 20530.

Dated: February 18, 2022.
Melody Braswell,
Department Clearance Officer for PRA, U.S. Department of Justice.

[FR Doc. 2022-03940 Filed 2-23-22; 8:45 am]

BILLING CODE 4410-FY-P